DEPARTMENT OF THE TREASURY

Community Development Financial Institutions Fund

Funding Opportunities; Small Dollar Loan Program; 2021 Funding Round

Funding Opportunity Title: Notice of Funds Availability (NOFA) inviting Applications for the fiscal year (FY) 2021 Funding Round of the Small Dollar Loan Program (SDL Program).

Announcement Type: Announcement of funding opportunity.

Funding Opportunity Number: CDFI-2021-SDL.

Catalog of Federal Domestic Assistance (CFDA) Number: 21.025.

Dates:

Table 1—FY 2021 Small Dollar Loan Program Funding Round Critical Deadlines for Applicants
Description | Deadline | Time (eastern time-ET) | Submission method
OMB Standard Form (SF)-424 Mandatory form | May 28, 2021 | 11:59 p.m. ET | Electronically via Grants.gov.
Last day to enter EIN and DUNS numbers in AMIS | May 28, 2021 | 11:59 p.m. ET | Electronically via Awards Management Information System (AMIS).
Last day to contact SDL Program Staff | June 25, 2021 | 5:00 p.m. ET | Service Request via AMIS or CDFI Fund Helpdesk: 202-653-0421 or sdlp@cdfi.treas.gov.
Last day to contact Certification, Compliance Monitoring and Evaluation (CCME) staff | June 25, 2021 | 5:00 p.m. ET | CCME Helpdesk: 202-653-0423 or Compliance and Reporting AMIS Service Request.
Last day to contact IT Help desk re AMIS support and Application submission | June 29, 2021 | 5:00 p.m. ET | CDFI Fund IT Helpdesk: 202-653-0422 or IT AMIS Service Request.
SDL Program Application and Required Attachments | June 29, 2021 | 5:00 p.m. ET | Electronically via AMIS.

Executive Summary: The Small Dollar Loan Program (SDL Program) is administered by the Community Development Financial Institutions Fund (CDFI Fund). Through the SDL Program, the CDFI Fund provides (1) grants for Loan Loss Reserves (LLR) to enable a Certified Community Development Financial Institution (CDFI) establish a loan loss reserve fund in order to defray the costs of a small dollar loan program established or maintained by such institution; and (2) grants for Technical Assistance (TA) for technology, staff support, and other eligible activities to enable a Certified CDFI to establish and maintain a small dollar loan program. All awards provided through this Notice of Funds Availability (NOFA) are subject to funding availability.

I. Program Description

A. Authorizing Statute: The SDL Program is a new program, authorized by Title XII—Improving Access to Mainstream Financial Institutions Act of the Dodd-Frank Wall Street Reform and Consumer Protection Act of 2010 (Pub. L. 111-203), which amended the Riegle Community Development Banking and Financial Institutions Act of 1994 (Pub. L. 103-325) to include the SDL Program (12 U.S.C. 4719). For a complete understanding of the program, the CDFI Fund encourages Applicants to review the SDL Program funding application (referred to hereafter as the “Application,” meaning the application submitted in response to this NOFA) and the Uniform Administrative Requirements, Cost Principles, and Audit Requirements for Federal Awards (2 CFR part 1000), which is the Department of the Treasury's codification of the Office of Management and Budget (OMB) government-wide framework for grants management at 2 CFR part 200 (Uniform Requirements). Each capitalized term used in this NOFA, but not defined herein, shall have the respective meanings assigned to them in the Application or the Uniform Requirements. Details regarding Application content requirements are found in the Application and related materials at www.cdfifund.gov/sdlp.

B. History: The CDFI Fund was established by the Riegle Community Development and Regulatory Improvement Act of 1994 to promote economic revitalization and community development through investment in and assistance to CDFIs. Since its creation in 1994, the CDFI Fund has provided nearly $4 billion through a variety of monetary awards programs to CDFIs, community development organizations, and financial institutions. In addition, the CDFI Fund has allocated $61 billion in tax credit allocation authority to Community Development Entities through the New Markets Tax Credit Program (NMTC Program), and has guaranteed more than $1.7 billion in bonds through the CDFI Bond Guarantee Program.

C. Uniform Administrative Requirements, Cost Principles, and Audit Requirements for Federal Awards: The Uniform Requirements codify financial, administrative, procurement, and program management standards that Federal award-making agencies must follow. Per the Uniform Requirements, when evaluating Applications, awarding agencies must evaluate the risks to the program posed by each Applicant, and each Applicant's merits and eligibility. These requirements are designed to ensure that Applicants for Federal assistance receive a fair and consistent review prior to an award decision. This review will assess items such as the Applicant's financial stability, quality of management systems, history of performance, and single audit findings. In addition, the Uniform Requirements include guidance on audit requirements and other award compliance requirements for award Recipients.

D. Priorities: The purpose of the SDL Program is to provide grants for LLR and TA to qualified organizations to establish and maintain small dollar loan programs that are safe, affordable, and responsible. SDL Program funding is intended to expand consumer access to financial institutions by providing alternatives to high cost small dollar lending. The SDL Program funding is also intended to help unbanked and underbanked populations build credit, access affordable capital, and allow greater access into the mainstream financial system. To pursue these objectives, the CDFI Fund will prioritize funding for Applications that propose to offer small dollar loan programs that include any of the following characteristics: (1) Koffer small dollar loan terms that are at least ninety (90) days; (2) use ability to repay underwriting that considers the borrower's ability to repay a loan based on both the borrower's income and expenses; (3) make loan decisions within one business day (or twenty-four (24) hours) after receipt of required documents; (4) offer a reduction in the borrower's loan rate if the borrower elects to use automatic debit payments; (5) offer automatic savings features that are built into the regularly-scheduled payments on a loan—provided that the resulting payment is still affordable—or, at a minimum, loans that can be structured so that, subject to the borrower's consent, payments continue for a period of time after the loan is repaid with all of the payments going into a savings vehicle; and (6) offer access to financial education, including credit counseling.

E. Funding limitations:

1. The CDFI Fund reserves the right to fund, in whole or in part, any, all, or none of the Applications submitted in response to this NOFA.

2. Prohibited Practices: SDL Program Awards may not be used to support small dollar loan programs that have any of the lending practices and loan characteristics listed in Table 2.

Table 2—SDL Program Prohibited Practices
Prohibited practice | Prohibited practice definition
i. High-Rate loans | Loans that exceed the lower of an all-inclusive 36% APR or the interest rate limit as set by the state agency that oversees financial institutions in your state.
ii. Coerced automated repayments | Loans that: (1) Have delayed loan disbursements for borrowers who do not agree to automatic repayments, (2) charge fees for borrowers who select manual payments, or (3) require borrowers to make payments using wire transfers or other means that may result in additional fees for borrowers.
iii. Excessive refinancing | Loans that allow refinancing before at least 80% of the principal has been repaid.
iv. Automatic loan insurance or credit card add-ons | Loans that automatically include add-on insurance products that require borrowers to opt-out to decline coverage, or require the borrower to accept or opt-out of a credit card. For example, loans that automatically include insurance products such as credit, life, disability insurance or involuntary unemployment insurance coverage, or loans that automatically open a credit card for the borrower.
v. Security interests in household goods, vehicles, or deposit accounts. Exception: Loans with a savings account component or credit builder loans | Loans that are secured, except for loans secured by a savings account for loans with a savings component or credit builder loans.
vi. Excessive late fees on missed loan payments | Loans that charge more than one fee per late payment.
vii. Abusive overdraft practices | Loans that charge more than one overdraft fee per month. Loans that have posting practices delaying credit for payments that result in overdrafts and fees. Loans that charge overdraft fees more than six times per year.
viii. Aggressive debt collection practices | Loans in which the lender:
| • Does not offer a workout program or other accommodations to help struggling borrowers before pursuing other debt collection avenues.
| • All debt collection activities must comply with the Fair Debt Collection Practices Act, whether conducted by the lender, a contract debt collector or sold to third party debt collectors.
| • Does not disclose to borrowers the details of its debt collection practices or provide notice to a borrower when its account is placed with debt collectors.
ix. Forced arbitration clause and class action ban | Loan contracts that contain mandatory arbitration clauses that prevent borrowers from seeking legal remedies in court or participating in a class action lawsuit.

F. SDL Program Statutory Requirements:

1. SDL Program Awards may not be used to provide direct loans to consumers.

2. SDL Program Awards may only be used to support small dollar loan programs that offer small dollar loans to consumers that:

a. Are made in amounts that do not exceed $2,500;

b. must be repaid in installments;

c. have no prepayment penalty; and

d. have payments that are reported to a least one of the consumer reporting agencies that compiles and maintains files on consumers on a nationwide basis.

II. Federal Award Information

A. Funding Availability: The CDFI Fund expects to award, through this NOFA, up to $13.5 million, as indicated in the following table:

Table 3—SDL Program Anticipated Award Amounts
Eligible awards | Award amount: Minimum | Award amount: Maximum
Loan Loss Reserves | $20,000 | Up to 20% of the Applicant's 3 year Projected Total to be closed On-Balance Sheet Small Dollar Loans, not to exceed $350,000.
Technical Assistance | 10,000 | $150,000.
Combination of Loan Loss Reserves and Technical Assistance | 30,000 | $500,000 (up to Up to 20% of the Applicant's 3 year Projected Total to be closed On-Balance Sheet Small Dollar Loans, not to exceed $350,000 plus $150,000).

Eligible Applicants may submit only one SDL Program Application and therefore will need to determine if they are applying for an LLR grant, a TA grant, or both. The CDFI Fund reserves the right to award more or less than the amounts cited above in each category, based upon available funding and other factors, as appropriate.

B. Types of Awards: The CDFI Fund will provide SDL Program Awards for LLR or TA in the form of grants to support the eligible activities as set forth in this NOFA and Application.

C. Anticipated Start Date and Period of Performance: The Period of Performance for each SDL Program Award begins with the date that the CDFI Fund announces the Recipients of the FY 2021 SDL Program Awards and includes a Recipient's three full consecutive fiscal years after the date of the award announcement, during which time the Recipient must meet the Performance Goals and Measures (PG&Ms) set forth in the Assistance Agreement. The Budget Period for an SDLP Award is the same as the Period of Performance.

D. Eligible Activities: An SDL Program Award must support or finance activities to establish and maintain small dollar loan programs that are safe, affordable, and responsible. SDL Program Awards may only be used as follows:

1. Loan Loss Reserves: Loan Loss Reserve (LLR) Awards must be set aside in the form of cash reserves, or through accounting-based accrual reserves, to cover losses on small dollar loans. LLR Awards may be used to mitigate losses on a new or established small dollar loan program. LLR Award Recipients must meet performance goals and metrics, which will be derived from projections and attestations provided by the Applicant in its Application, prior to the end of the Period of Performance.

2. Technical Assistance: TA Awards may be used for technology, staff support, and other costs associated with establishing and maintaining a small dollar loan program as listed in Table 4. The seven eligible activity categories are: (i) Compensation—Personal Services; (ii) Professional Service Costs; (iii) Travel Costs; (iv) Training and Education Costs; (v) Equipment; (vi) Supplies; and (vii) Development Services. The TA award must be expended in the seven eligible activity categories before the end of the Period of Performance.-None of the eligible activity categories are authorized for indirect costs or an associated indirect cost rate. Any expenses that are prohibited by the Uniform Requirements are unallowable and are generally found in Subpart E-Cost Principles.

SDL Program Recipients must meet certain PG&Ms which will require the Recipient to expend the SDL Program Award on eligible activities and close small dollar loans.

(i)(a) LLR Award Recipients that will use the SDL Program Award to start a new small dollar loan program must expend 50% of the Recipient's first payment amount by the second year of the Period of Performance for loan loss reserves for a new small dollar loan program and expend 100% of the total award amount by the Period of Performance end date for loan loss reserves for a new small dollar loan program. LLR Award Recipients that will use the SDL Program Award to expand an existing small dollar loan program must expend 75% of the Recipient's first payment amount by the end of the first year of the Period of Performance for loan loss reserves to expand an existing small dollar loan program and expend 100% of the total award amount by the Period of Performance end date for loan loss reserves to expand an existing small dollar loan program.

(i)(b) TA Award Recipients that will use the SDL Program Award to start a new small dollar loan program must expend 50% of the Recipient's first payment amount by the second year of the Period of Performance on eligible activities to start a new small dollar loan program and expend 100% of the total award amount by the Period of Performance end date on eligible activities to start a new small dollar loan program. TA Award Recipients that will use the SDL Program Award to expand an existing small dollar loan program must expend 75% of the Recipient's first payment amount by the end of the first year of the Period of Performance on eligible activities to expand an existing small dollar loan program and expend 100% of the total award amount by the Period of Performance end date on eligible activities to expand an existing small dollar loan program.

(ii) All SDL Program Award Recipients must close small dollar loans based on the three-year projected small dollar loan total to be closed as proposed in the Application, demonstrating an increase in lending. This amount may be adjusted based on award size.

Final PG&Ms may differ and will be set forth in the final SDL Program Assistance Agreement.

For purposes of this NOFA, the seven eligible TA activity categories are defined below:

Table 4—Eligible Technical Assistance Activity Categories, Subject to the Applicable Provisions of the Uniform Requirements
(i) Compensation—Personal Services | TA paid to cover all remuneration, paid currently or accrued, for services of Applicant's employees related to establishing or maintaining the Applicant's small dollar loan program rendered during the Period of Performance under the TA grant in accordance with section 200.430 of the Uniform Requirements.
| Any work performed directly, but unrelated to the purposes of the TA grant may not be paid as Compensation through a TA grant. For example, the salaries for building maintenance are not related to the purpose of a TA grant and would be deemed unallowable.
(ii) Professional service costs | TA used to pay for professional and consultant services (e.g., such as strategic and marketing plan development) related to establishing or maintaining the Applicant's small dollar loan program, rendered by persons who are members of a particular profession or possess a special skill (e.g., credit analysis, portfolio management), and who are not officers or employees of the Applicant, in accordance with section 200.459 of the Uniform Requirements. Payment for a consultant's services may not exceed the current maximum of the daily equivalent rate paid to an Executive Schedule Level IV Federal employee.
(iii) Travel costs | TA used to pay costs of transportation, lodging, subsistence, and related items incurred by the Applicant's personnel who are on travel status on business related to establishing or maintaining the Applicant's small dollar loan program, in accordance with section 200.474 of the Uniform Requirements. Travel costs do not include costs incurred by the Applicant's consultants who are on travel status. Any payments for travel expenses incurred by the Applicant's personnel but unrelated to carrying out the purpose of the TA grant would be deemed unallowable. As such, documentation must be maintained that justifies the travel as necessary to the TA grant.
(iv) Training and education costs | TA used to pay the cost of training and education provided by the Applicant for employees' development in accordance with section 200.473 of the Uniform Requirements. TA can only be used to pay for training costs incurred by the Applicant's employees related to establishing or maintaining the Applicant's small dollar loan program. Training and education costs may not be incurred by the Applicant's consultants.
(v) Equipment | TA used to pay for tangible personal property, having a useful life of more than one year and a per-unit acquisition cost of at least $5,000, as defined in the Uniform Requirements, related to establishing or maintaining the Applicant's small dollar loan program. For example, items such as information technology systems are allowable as Equipment costs. The Applicant must comply, as applicable, with the Buy American Act of 1933, 41 U.S.C. 8301-8303 with respect to the purchase of Equipment.
(vi) Supplies | TA used to pay for tangible personal property with a per unit acquisition cost of less than $5,000, as defined in the Uniform Requirements, related to establishing or maintaining the Applicant's small dollar loan program. For example, a desktop computer costing $1,000 is allowable as a Supply cost. The Applicant must comply, as applicable, with the Buy American Act of 1933, 41 U.S.C. 8301-8303 with respect to the purchase of Supplies.
(vii) Development Services | TA used to pay for activities undertaken by an Applicant that prepare or assist current or potential borrowers to use the Applicant's small dollar loan program. For example, such activities include financial education, including credit counseling.

E. Persistent Poverty Counties: Pursuant to the Consolidated Appropriations Act, 2020 (Pub. L. 116-63) and Consolidated Appropriations Act, 2021 (Pub. L. 116-260), Congress mandated that at least 10% of the CDFI Fund's appropriations be directed to counties that meet the criteria for “Persistent Poverty” designation. Persistent Poverty Counties (PPCs) are defined as any county, including county equivalent areas in Puerto Rico, that has had 20% or more of its population living in poverty over the past 30 years, as measured by the 1990 and 2000 decennial censuses, and the 2011-2015 5-year data series available from the American Community Survey of the Census Bureau or any other territory or possession of the United States that has had 20% or more of its population living in poverty over the past 30 years, as measured by the 1990, 2000 and 2010 Island Areas Decennial Censuses, or equivalent data, of the Bureau of the Census and published by the CDFI Fund at: https://www.cdfifund.gov/Documents/PPC%20updated%20Oct.2017.xlsx. To comply with this mandate, the CDFI Fund will prioritize funding to Applicants that have headquarters (as stated in the Applicant's Application) located in PPCs.

III. Eligibility Information

A. Eligible Applicants: In order to be eligible to apply for an SDL Program Award, Eligible Applicants are as follows:

1. For LLRs:

a. A Certified Community Development Financial Institution (CDFI); or

b. a partnership between:

i. A Certified CDFI; and

ii. A Federally Insured Depository Institution ¹ (FIDI) with a primary mission to serve targeted Investment Areas.²

¹ A “federally insured depository institution” is any insured depository institution as that term is defined in section 3 of the Federal Deposit Insurance Act (12 U.S.C. 1813) and any insured credit union as that term is defined in section 101 of the Federal Credit Union Act (12 U.S.C. 1752).

² 12 U.S.C. 4702(16), Investment Area—The term “investment area” means a geographic area (or areas) including an Indian reservation that—

(A)(i) meets objective criteria of economic distress developed by the Fund, which may include the percentage of low-income families or the extent of poverty, the rate of unemployment or underemployment, rural population outmigration, lag in population growth, and extent of blight and disinvestment; and (ii) has significant unmet needs for loans or equity investments; or

(B) encompasses or is located in an empowerment zone or enterprise community designated under section 1391 of the Internal Revenue Code of 1986.

2. For TA:

a. A Certified CDFI; or

b. a partnership between two or more Certified CDFIs.

3. For Combination of LLR and TA:

a. A Certified CDFI.

Eligible Applicants may submit only one SDL Program Application and therefore will need to determine if they are eligible and applying for LLR, TA, or both.

For purposes of the Application, the term “Applicant” refers to an organization applying on its own as a Certified CDFI or refers to the designated lead Certified CDFI applying on behalf of a partnership. The Applicant must use the SDL Program Award to establish or maintain a small dollar loan program. In the case of a partnership, the designated lead Certified CDFI must use the SDL Program Award to establish or maintain a small dollar loan program.

B. Additional Guidance on Applicants Applying As Partnerships: The partnership must designate a lead Certified CDFI for the partnership that will submit the Application. This designated lead Certified CDFI will also submit a written partnership agreement (e.g., Memorandum of Understanding) detailing roles and responsibilities of the partners, partner replacement or substitution restrictions, any financial contributions and profit sharing arrangements, and performance requirements for the entities in the partnership.

A partner may be a FIDI, if the partnership is applying for an LLR Award, or a Certified CDFI, if the partnership is applying for a TA Award. A partner may not apply for its own award under the FY 2021 SDL Program funding round or apply as a partner for more than one Application submitted under the FY 2021 SDL Program funding round. A partnership is a formal arrangement, as evidenced by a written partnership agreement (e.g., Memorandum of Understanding), between a Certified CDFI and a FIDI or between two or more Certified CDFIs. The partnership must be designed to accomplish one or more of the strategic goals discussed in the Business Strategy and Community Impact section of the SDL Applicant's Application and be integral to the successful completion of the Applicant's strategic goal(s). The partnership should be such that the Applicant's strategic goal(s), would not be achievable without the direct input and/or assistance of the partner. An Applicant that collaborates or coordinates with a FIDI or a CDFI to achieve the strategic goals detailed in the Application is not required to apply as a partnership. Applicants that apply as a partnership will be evaluated based on the same criteria as Applicants that apply without a partnership. If selected to receive an SDL Program Award, the lead Certified CDFI Recipient will be solely responsible for carrying out the activities described in its Application and complying with the terms and conditions of the Assistance Agreement. The partner(s) will not be a co-Recipient of the award. As such, the lead Certified CDFI Recipient will be prohibited from using the SDL Program Award to fund any activity carried out directly by the partner or an Affiliate or Subsidiary thereof. Examples of partnerships include the following:

Applying as a Partnership

Example 1: ABC Certified CDFI has a strategic goal of increasing its small dollar lending by X% over X number of years. ABC Certified CDFI will request an SDL Program Award for LLRs to mitigate losses on the small dollar loans it provides as it seeks to expand its small dollar loan program. ABC Certified CDFI has a partnership agreement in place with a local FIDI that it will refer all small dollar loan candidates to the CDFI. ABC Certified CDFI chooses to apply as a partnership with the local FIDI as its partner. ABC Certified CDFI will explain in its narrative and Partnership Agreement how an SDL Program Award for LLRs and the referrals from the local FIDI partner will ensure that its strategic goal of increasing small dollar lending is achieved.

Example 2: XYZ Certified CDFI has a strategic goal to provide a new small dollar loan product. XYZ Certified CDFI will request an SDL Program Award for TA to upgrade its technology systems to support a new small dollar loan product. XYZ Certified CDFI has a partnership agreement in place with a Certified CDFI that will provide free financial counseling services to the XYZ Certified CDFI's small dollar loan Applicants. XYZ Certified CDFI chooses to apply as a partnership with the Certified CDFI as its partner. XYZ Certified CDFI will explain in its narrative and Partnership Agreement how an SDL Program Award for TA and the financial counseling provided to potential borrowers and borrowers will support the growth of the new small dollar loan program.

Note: A Certified CDFI Depository Institution Holding Company Applicant that intends to carry out the activities of an Award through its Subsidiary Certified CDFI Insured Depository Institution should not apply as a partnership. Instead, the Certified CDFI Depository Institution Holding Company should apply as a sole entity. Table 5 indicates the criteria that each Application must meet in order to be eligible for an SDL Program Award pursuant to this NOFA.

Table 5—Eligibility Requirements for SDL Program Applicants
All Applicants | • Must be a Certified CDFI as set forth in 12 CFR 1805.201 and verified in the CDFI's AMIS account as of the publication date of this NOFA.
| • The CDFI Fund will consider an Application submitted by an Applicant that has pending noncompliance issues with its Annual Certification and Data Collection Report if the CDFI Fund has not yet made a final compliance determination.
| • If a Certified CDFI loses its certification at any point prior to the award announcement, the Application will be deemed ineligible and no longer be considered for an Award by the CDFI Fund.
| • The financial information in the Application (including any uploaded attachments) should only reflect the activities of the entity that will carry out the proposed award activities. Do not include financial or portfolio information from parent companies, Affiliates, or Subsidiaries in the Application. Also, do not include financial or portfolio information from partner entities, if the Applicant is applying as a partnership.
| • An Applicant that applies on behalf of another organization will be rejected without further consideration, other than Depository Institution Holding Companies (see below).
FIDI Partner | • Is not required to be a Certified CDFI.
| • Must have a primary mission to serve targeted Investment Areas.
Application and submission overview through Grants.gov and Awards Management Information System (AMIS) | • Applicants must submit the Required Application Documents listed in Table 6. • The CDFI Fund will only accept Applications that use the official Application templates provided on the Grants.gov and AMIS websites. Applications submitted with alternative or altered templates will not be considered.
| • Applicants undergo a two-step process that requires the submission of Application documents by two separate deadlines in two different locations: (1) The SF-424 in Grants.gov and (2) all other Required Application Documents in AMIS.
| • Grants.gov and the SF-424:
| • Grants.gov: Applicants must submit the Standard Form (SF) SF-424, Application for Federal Assistance.
| • All Applicants must register in the Grants.gov system to successfully submit an Application. The CDFI Fund strongly encourages Applicants to register as soon as possible.
| • The CDFI Fund will not extend the SF-424 application deadline for any Applicant that started the Grants.gov registration process on, before, or after the date of the publication of this NOFA, but did not complete it by the deadline except in the case of a Federal government administrative or Federal technological error that directly resulted in a late submission of the SF-424.
| • The SF-424 must be submitted in Grants.gov on or before the deadline listed in Table 1 and Table 6. Applicants are strongly encouraged to submit their SF-424 as early as possible in the Grants.gov portal.
| • The deadline for the Grants.gov submission is before the AMIS submission deadline.
| • The SF-424 must be submitted under the SDL Program Funding Opportunity Number for the SDL Program Application.
| • If the SF-424 is not accepted by Grants.gov by the deadline, the CDFI Fund will not review any material submitted in AMIS and the Application will be deemed ineligible.
| • AMIS and all other Required Application Documents listed in Table 6:
| • AMIS is an enterprise-wide information technology system. Applicants will use AMIS to submit and store organization and Application information with the CDFI Fund.
| • Applicants are only allowed one SDL Program Application submission in AMIS.
| • Each Application in AMIS must be signed by an Authorized Representative.
| • Applicants must ensure that the Authorized Representative is an employee or officer of the Applicant, authorized to sign legal documents on behalf of the organization. Consultants working on behalf of the organization may not be designated as Authorized Representatives.
| • Only the Authorized Representative or Application Point of Contact, included in the Application, may submit the Application in AMIS.
| • All Required Application Documents must be submitted in AMIS on or before the deadline specified in Tables 1 and 6.
| • The CDFI Fund will not extend the deadline for any Applicant except in the case of a Federal government administrative or Federal technological error that directly resulted in the late submission of the Application in AMIS.
Employer Identification Number (EIN) | • Applicants must have a unique EIN assigned by the Internal Revenue Service (IRS).
| • The CDFI Fund will reject an Application submitted with the EIN of a parent or Affiliate organization.
| • The EIN in the Applicant's AMIS account must match the EIN in the Applicant's System for Award Management (SAM) account. The CDFI Fund reserves the right to reject an Application if the EIN in the Applicant's AMIS account does not match the EIN in its SAM account.
| • Applicants must enter their EIN into their AMIS profile by the deadline specified in Tables 1 and 6.
Dun & Bradstreet, (DUNS) number | • Pursuant to OMB guidance (68 FR 38402), an Applicant must apply using its unique DUNS number in Grants.gov.
| • The CDFI Fund will reject an Application submitted with the DUNS number of a parent or Affiliate organization.
| • The DUNS number in the Applicant's AMIS account must match the DUNS number in the Applicant's Grants.gov and SAM accounts. The CDFI Fund will reject an Application if the DUNS number in the Applicant's AMIS account does not match the DUNS number in its Grants.gov and SAM accounts.
| • Applicants must enter their DUNS number into their AMIS profile on or before the deadline specified in Tables 1 and 6.
| • For Applicants applying as a partnership, the DUNS number of the designated lead Certified CDFI Applicant in AMIS must match the DUNS number on the SF-424 submitted through Grants.gov.
System for Award Management (SAM) | • SAM is a web-based, government-wide application that collects, validates, stores, and disseminates business information about the federal government's trading partners in support of the contract awards, grants, and electronic payment processes.
| • Applicants must register in SAM as part of the Grants.gov registration process.
| • Applicants must have a DUNS number and an EIN number in order to register in SAM.
| • Applicants must be registered in SAM in order to submit an SF-424 in Grants.gov.
| • The CDFI Fund reserves the right to deem an Application ineligible if the Applicant's SAM account expires during the Application evaluation period, or is set to expire before September 30, 2021, and the Applicant does not re-activate, or renew, as applicable, the account within the deadlines that the CDFI Fund communicates to affected Applicants during the Application evaluation period.
AMIS Account | • The Authorized Representative and/or Application Point of Contact must be included as “users” in the Applicant's AMIS account.
| • An Applicant that fails to properly update its AMIS account may miss important communication from the CDFI Fund and/or may not be able to successfully submit an Application.
501(c)(4) status | • Pursuant to 2 U.S.C. 1611, any 501(c)(4) organization that engages in lobbying activities is not eligible to receive a SDL Program grant.
Compliance with Nondiscrimination and Equal Opportunity Statutes, Regulations, and Executive Orders | • An Applicant may not be eligible to receive an award if proceedings have been instituted against it in, by, or before any court, governmental agency, or administrative body, and a final determination within the last three years indicates the Applicant has violated any of the following laws, including but not limited to: Title VI of the Civil Rights Act of 1964, as amended (42 U.S.C. 2000d); Section 504 of the Rehabilitation Act of 1973 (29 U.S.C. 794); the Age Discrimination Act of 1975, (42 U.S.C. 6101-6107), and Executive Order 13166, Improving Access to Services for Persons with Limited English Proficiency.
Depository Institution Holding Companies (DIHC) ³ Applicant | • In the case where a Certified CDFI Depository Institution Holding Company Applicant intends to carry out the activities of an award through its Subsidiary Certified CDFI Insured Depository Institution, the Application must be submitted by the Certified CDFI Depository Institution Holding Company and reflect the activities and financial performance of the Subsidiary Certified CDFI Insured Depository Institution.
| • If a Certified CDFI Depository Institution Holding Company and its Certified CDFI Subsidiary Insured Depository Institution both apply for a SDL Program grant, only the Depository Institution Holding Company will receive an award, not both. In such instances, the Subsidiary Insured Depository Institution will be deemed ineligible.
| • Authorized Representatives of both the Depository Institution Holding Company and the Subsidiary CDFI Insured Depository Institution must certify that the information included in the Application represents that of the Subsidiary CDFI Insured Depository Institution, and that the award funds will be used to support the Subsidiary CDFI Insured Depository Institution for the eligible activities outlined in the Application.
Use of award | • All awards made through this NOFA must be used to support the Applicant's activities in at least one of the Eligible Activity Categories (see Section II. (D)).
| • With the exception of Depository Institution Holding Company Applicants, awards may not be used to support the activities of, or otherwise be passed through, transferred, or co-awarded to, third-party entities, whether Affiliates, Subsidiaries, or others, unless done pursuant to a merger or acquisition or similar transaction, and with the CDFI Fund's prior written consent.
| • The Recipient of any award made through this NOFA must comply, as applicable, with the Buy American Act of 1933, 41 U.S.C. 8301-8303 and section 2 C.F.R. 200.216 of the Uniform Requirements, with respect to any Direct Costs.
| • For Applicants applying as a partnership, only the designated lead Certified CDFI may use the award to carry out the activities of the award.
Requested award amount | • An Applicant must state its requested award amount in the Application in AMIS. An Applicant that does not include this amount will not be allowed to submit an Application.
Pending resolution of noncompliance | • If an Applicant (or Affiliate of an Applicant) that is a prior recipient or allocatee under any CDFI Fund program: (i) Has demonstrated it has been in noncompliance with a previous assistance agreement, award agreement, allocation agreement, bond loan agreement, or agreement to guarantee and (ii) the CDFI Fund has yet to make a final determination as to whether the entity is in noncompliance with or default of its previous agreement, the CDFI Fund will consider the Applicant's Application under this NOFA pending full resolution, in the sole determination of the CDFI Fund, of the noncompliance.
Noncompliance or default status | • The CDFI Fund will not consider an Application submitted by an Applicant that is a prior CDFI Fund award recipient or allocatee under any CDFI Fund program if, as of the AMIS Application deadline in this NOFA, (i) the CDFI Fund has made a final determination in writing that such Applicant (or Affiliate of such Applicant) is in noncompliance with or default of a previously executed assistance agreement, award agreement, allocation agreement, bond loan agreement, or agreement to guarantee, and (ii) the CDFI Fund has provided written notification that such entity is ineligible to apply for or receive any future CDFI Fund awards or allocations. Such entities will be ineligible to submit an Application for such time period as specified by the CDFI Fund in writing.
| • The CDFI Fund will not consider any Applicant that has defaulted on a loan from the CDFI Fund within five years of the Application deadline.
Debarment/Do Not Pay Verification | • The CDFI Fund will conduct a debarment check and will not consider an Application submitted by an Applicant if the Applicant (or Affiliate of an Applicant) is delinquent on any Federal debt.
| • The Do Not Pay Business Center was developed to support Federal agencies in their efforts to reduce the number of improper payments made through programs funded by the Federal government. The Do Not Pay Business Center provides delinquency information to the CDFI Fund to assist with the debarment check.
Regulated Institutions ⁴ | • Each Regulated Institution SDL Program Applicant must have a CAMELS/CAMEL rating (rating for banks and credit unions, respectively) or equivalent type of rating by its regulator (collectively referred to as “CAMELS/CAMEL rating”) of a “1”, “2”, or “3”.
| • SDL Program Applicants with CAMELS/CAMEL ratings of “4” or “5” will not be eligible for awards.
| • The CDFI Fund will also evaluate material concerns identified by the Appropriate Federal Banking Agency in determining the eligibility of Regulated Institution Applicants.

³ Depository Institution Holding Company or DIHC means a Bank Holding Company or a Savings and Loan Holding Company.

⁴ Regulated Institutions include Insured Credit Unions, Insured Depository Institutions, State-Insured Credit Unions and Depository Institution Holding Companies.

Any Applicant that does not meet the criteria in Table 5 is ineligible to apply for an SDL Program Award under this NOFA.

C. Contacting the CDFI Fund: Accordingly, Applicants that are prior Recipients and/or allocatees under any CDFI Fund program are advised to comply with requirements specified in an Assistance Agreement, allocation agreement, bond loan agreement, or agreement to guarantee, and to ensure their Affiliates are in compliance with any agreements. All outstanding reporting and compliance questions should be directed to the Office of Certification, Compliance Monitoring and Evaluation help desk by AMIS Service Requests or by telephone at (202) 653-0421; except in the case of SDL Program reporting and compliance questions, which should be directed to the SDL Program help desk by completing a Service Request through AMIS using “Small Dollar Loan Program” for the Service Request program. Alternatively, the public can contact SDL Program staff via email at SDLP@cdfi.treas.gov or by telephone at (202) 653-0421. The CDFI Fund will not respond to Applicants' reporting, compliance, or disbursement telephone calls or email inquiries that are received after 5:00 p.m. ET on June 25, 2021 until after the Application deadline. The CDFI Fund will respond to technical issues related to AMIS Accounts through 5:00 p.m. ET on June 29, 2021, via AMIS Service Requests, or at AMIS@cdfi.treas.gov, or by telephone at (202) 653-0422.

D. Matching Funds Requirements: The Matching Funds requirement for SDL Program Applicants was waived in the final FY 2020 and 2021 appropriations. Therefore, SDL Program Applicants are not required to provide Matching Funds.

E. Other Eligibility Criteria:

1. How Affiliated Entities Can Submit an Application: As part of the Application review process, the CDFI Fund considers whether Applicants are Affiliates, as such term is defined in 12 CFR1807.104. If an Applicant and its Affiliate(s) wish to submit an Application, they must do so through one of the Affiliated entities, in one Application; an Applicant and its Affiliates may not submit separate Applications. If Affiliates submit multiple or separate Applications, the CDFI Fund may, at its discretion, reject all such Applications received or select only one of the submitted Applications to deem eligible, assuming that Application meets all other eligibility criteria in Section III of this NOFA.

Furthermore, an Applicant that receives an award in this SDL Program round may not become an Affiliate of another Applicant that receives an award in this SDL Program round at any time after the submission of an SDL Program Application under this NOFA. This requirement will also be a term and condition of the Assistance Agreement (see Application Frequently Asked Questions on the CDFI Fund's website at http://www.cdfifund.gov/sdlp for more details).

2. An Applicant will not be eligible to receive an SDL Program Award if the Applicant ails to demonstrate in the Application that its SDL Program Award would be used to establish or maintain a small dollar loan program that offers small dollar loans to consumers that:

a. Are made in amounts that do not exceed $2,500;

b. must be repaid in installments;

c. have no prepayment penalty; and

d. have payments that are reported to at least one of the consumer reporting agencies that complies and maintain files on consumers on a nationwide basis.

3. Prohibited Practices. SDL Program Awards will not support small dollar loan programs that have the lending practices and loan characteristics listed in Table 2.

IV. Application and Submission Information

A. Address to Request Application Package: Application materials can be found on the Grants.gov and the CDFI Fund's website at www.cdfifund.gov/sdlp. Applicants may request a paper version of any Application material by contacting the CDFI Fund Help Desk by email at sdlp@cdfi.treas.gov or by telephone at (202) 653-0421.

B. Content and Form of Application Submission: The CDFI Fund will post to its website, at www.cdfifund.gov/sdlp, instructions for accessing and submitting an Application. Detailed Application content requirements are found in the Application and related guidance documents.

All Applications must be prepared in English and calculations must be made in U.S. dollars. Table 6 lists the required funding Application documents for the FY 2021 SDL Program Round. Applicants must submit all required documents for the Application to be deemed complete. Please be aware that an Applicant that fails to submit audited financial statements for its three most recently completed fiscal years will be deemed as not having a complete Application and will be considered ineligible. The CDFI Fund reserves the right to request and review other pertinent or public information that has not been specifically requested in this NOFA or the Application. Information submitted by the Applicant that the CDFI Fund has not specifically requested will not be reviewed or considered as part of the Application. Information submitted must accurately reflect the Applicant's activities and/or its Subsidiary Insured Depository Institution, in the case where the Applicant is an Insured Depository Institution Holding Company.

Table 6—Funding Application Documents
Application document | Submission format | Required?
Standard Form (SF) 424 Mandatory Form | Fillable PDF in Grants.gov | Required for all Applicants.
SDL Program Application | AMIS | Required for all Applicants.
Attachments to the Application
Audited financial statements (three most recently completed fiscal years prior to the publication date of this NOFA) | PDF in AMIS | Required only for Loan funds, venture capital funds, and other non-Regulated Institutions.
Management Letter for the Applicant's Most Recently Completed Fiscal Year | PDF in AMIS | Required only for Loan funds, venture capital funds, and other non-Regulated Institutions.
The Management Letter is prepared by the Applicant's auditor and is a communication on internal control over financial reporting, compliance, and other matters. The Management Letter contains the auditor's findings regarding the Applicant's accounting policies and procedures, internal controls, and operating policies, including any material weaknesses, significant deficiencies, and other matters identified during auditing. The Management Letter may include suggestions for improving on identified weaknesses and deficiencies and/or best practice suggestions for items that may not be considered to be weaknesses or deficiencies. The Management Letter may also include items that are not required to be disclosed in the annual audited financial statements. The Management Letter is distinct from the auditor's Opinion Letter, which is required by Generally Accepted Accounting Principles (GAAP). Management Letters are not required by GAAP, and are sometimes provided by the auditor as a separate letter from the audit itself.
Statement(s) in Lieu of Management Letter for Applicant's Most Recently Completed Fiscal Year issued by the Board Treasurer or other Board member using the template provided in the Application materials (required only if Management Letters are not available for audited financial statements).
Year-end call reports for Applicant's three most recently completed fiscal years prior to the publication date of the NOFA (for additional guidance see FAQ) | PDF in AMIS | Required only for Regulated Institutions.
A Qualified Federally Insured Depository Institution Partnership Attestation Form demonstrating that the federally insured depository institution has a primary mission of serving targeted Investment Areas | PDF in AMIS | Required only for a federally insured depository institution that is applying as a partnership with a Certified CDFI for an LLR award.
A Partnership Agreement between a Certified CDFI and federally insured depository institution that has a primary mission of serving targeted Investment Areas applying for an LLR award or a partnership between or among two or more Certified CDFIs applying for a TA award detailing the terms of their partnership to establish or maintain a small dollar loan program | PDF in AMIS | Required only for: (1) A federally insured depository institution and a Certified CDFI applying for an LLR award; and (2) two or more Certified CDFIs that are applying as a partnership for a TA award.

The CDFI Fund has a sequential, two-step process that requires the submission of Application documents in separate systems and on separate deadlines. The SF-424 form must be submitted through Grants.gov and all other Application documents through the AMIS portal. The CDFI Fund will not accept Applications via email, mail, facsimile, or other forms of communication, except in extremely rare circumstances that have been pre-approved by the CDFI Fund. The separate Application deadlines for the SF-424 and all other Application materials are listed in Tables 1 and 6. Only the Authorized Representative for the Organization or Application Point of Contact designated in AMIS may submit the Application through AMIS.

Applicants are strongly encouraged to submit the SF-424 as early as possible through Grants.gov in order to provide sufficient time to resolve any potential submission issues.

Applicants should contact Grants.gov directly with questions related to the registration or submission process, as the CDFI Fund does not administer the Grants.gov system.

The CDFI Fund strongly encourages Applicants to start the Grants.gov registration process as soon as possible, as it may take several weeks to complete (refer to the following link: http://www.grants.gov/web/grants/register.html). An Applicant that has previously registered with Grants.gov must verify that its registration is current and active. If an Applicant has not previously registered with Grants.gov, it must first successfully register in SAM.gov, as described in Section IV.D below.

C. Dun and Bradstreet Data Universal Numbering System: Pursuant to the Uniform Requirements, each Applicant must provide as part of its Application submission a valid Dun & Bradstreet Data Universal Numbering System (DUNS) number. Any Applicant without a DUNS number will not be able to register in the System for Award Management (SAM) or register and submit an Application in the Grants.gov system. Please allow sufficient time for Dun & Bradstreet to respond to inquiries and/or requests for DUNS numbers.

D. System for Award Management: Any entity applying for Federal grants or other forms of Federal financial assistance through Grants.gov must be registered in SAM before submitting its Application materials through that platform. When accessing SAM.gov, users will be asked to create a login.gov user account (if they do not already have one). Going forward, users will use their login.gov username and password every time when logging into SAM.gov. The SAM registration process can take four weeks or longer to complete so Applicants are strongly encouraged to begin the registration process upon publication of this NOFA in order to avoid potential Application submission issues. An original, signed notarized letter identifying the authorized entity administrator for the entity associated with the DUNS number is required by SAM and must be mailed to the Federal Service Desk. This requirement is applicable to new entities registering in SAM, as well as existing entities with registrations being updated or renewed in SAM. Applicants that have previously completed the SAM registration process must verify that their SAM accounts are current and active.

Applicants are required to maintain a current and active SAM account at all times during which it has an active Federal award or an Application under consideration for an award by a Federal awarding agency.

The CDFI Fund will not consider any Applicant that fails to properly register or activate its SAM account and, as a result, is unable to submit its Application by the Application deadline. Applicants must contact SAM directly with questions related to registration or SAM account changes, as the CDFI Fund does not maintain this system. For more information about SAM, please visit https://www.sam.gov or call 866-606-8220.

Table 7—Grants.gov Registration Timeline Summary
Step | Agency | Estimated minimum time to complete
Obtain a DUNS number | Dun & Bradstreet | One Week.*
Register in SAM.gov | System for Award Management (SAM) | Four Weeks.*
Register in Grants.gov | Grants.gov | One Week.**
* Applicants are advised that the stated duration are estimates only and represent minimum timeframes. Actual timeframes may take longer. The CDFI Fund will not consider any Applicant that fails to properly register or activate its SAM account, has not yet received a DUNS number, and/or fails to properly register in Grants.gov.
** This estimate assumes an Applicant has a DUNS number, an EIN number, and is already registered in SAM.gov.

E. Submission Dates and Times:

1. Submission Deadlines: Table 8 lists the deadlines for submission of the documents related to the FY 2021 SDL Program Funding Round:

Table 8—FY 2020 SDL Program Deadlines for Applicants
Document | Deadline | Time— eastern time (ET) | Submission method
SF-424 Mandatory form | May 28, 2021 | 11:59 p.m. | Electronically via Grants.gov.
Create AMIS Account (if the Applicant does not already have one) | May 28, 2021 | 11:59 p.m. | Electronically via AMIS.
SDL Program Application and Required Attachments | June 29, 2021 | 5:00 p.m. | Electronically via AMIS.

2. Confirmation of Application Submission in Grants.gov and AMIS: Applicants are required to submit the SF-424 Mandatory Form through the Grants.gov system under the FY 2021 SDL Program Funding Opportunity Number (listed at the beginning of this NOFA). All other required Application materials must be submitted through the AMIS website. Application materials submitted through each system are due by the applicable deadline listed in Table 6. Applicants must submit the SF-424 by an earlier deadline than that of the other required Application materials in AMIS. If a valid SF-424 is not submitted through Grants.gov by the corresponding deadline, the Applicant will not be able to submit the additional Application materials in AMIS, and the Application will be deemed ineligible. Thus, Applicants are strongly encouraged to submit the SF-424 as early as possible in the Grants.gov portal, given that potential submission issues may impact the ability to submit a complete Application.

(a) Grants.gov Submission Information: Each Applicant will receive an initial email from Grants.gov immediately after submitting the SF-424, confirming that the submission has entered the Grants.gov system. This email will contain a tracking number for the submitted SF-424. Within forty-eight (48) hours, the Applicant will receive a second email which will indicate if the submitted SF-424 was either successfully validated or rejected with errors. However, Applicants should not rely on the email notification from Grants.gov to confirm that their SF-424 was validated. Applicants are strongly encouraged to use the tracking number provided in the first email to closely monitor the status of their SF-424 by checking Grants.gov directly. The Application materials submitted in AMIS are not accepted by the CDFI Fund until Grants.gov has validated the SF-424. In the Grants.gov Workspace function, please note that the Application package has not been submitted if you have not received a tracking number.

(b) AMIS Submission Information: AMIS is a web-based portal where Applicants will directly enter their Application information and add required attachments listed in Table 6. Each Applicant must register as an organization in AMIS in order to submit the required Application materials through this portal. AMIS will verify that the Applicant provided the minimum information required to submit an Application. Applicants are responsible for the quality and accuracy of the information and attachments included in the Application submitted in AMIS. The CDFI Fund strongly encourages the Applicant to allow sufficient time to confirm the Application content, review the material submitted, and remedy any issues prior to the Application deadline. Applicants can only submit one Application in AMIS. Upon submission, the Application will be locked and cannot be resubmitted, edited, or modified in any way. The CDFI Fund will not unlock or allow multiple AMIS Application submissions.

Prior to submission, each Application in AMIS must be signed by an Authorized Representative. An Authorized Representative is an employee or officer and has the authority to legally bind and make representations on behalf of the Applicant; consultants working on behalf of the Applicant cannot be designated as Authorized Representatives. The Applicant may include consultants as Application point(s) of contact, who will be included on any communication regarding the Application and will be able to submit the Application but cannot sign the Application. The Authorized Representative and/or Application point(s) of contact must be included as “Contacts” in the Applicant's AMIS account. The Authorized Representative must also be a “user” in AMIS. An Applicant that fails to properly register and update its AMIS account may miss important communications from the CDFI Fund or fail to submit an Application successfully. Only an Authorized Representative for the organization or an Application point of contact can submit the Application in AMIS. After submitting its Application, the Applicant will not be permitted to revise or modify its Application in any way or attempt to negotiate the terms of an Award.

3. Multiple Application Submissions: Applicants are only permitted to submit one complete Application. However, the CDFI Fund does not administer Grants.gov, which does allow for multiple submissions of the SF-424. If an Applicant submits multiple SF-424 Applications in Grants.gov, the CDFI Fund will only review the SF-424 Application submitted in Grants.gov that is attached to the AMIS Application. Applicants can only submit one Application through AMIS.

4. Late Submission: The CDFI Fund will not accept an SF-424 submitted after the applicable Grants.gov or AMIS Application submitted after the AMIS Application deadline, except where the submission delay was a direct result of a Federal government administrative or Federal government technological error. This exception includes any errors associated with Grants.gov, SAM.gov, AMIS or any other applicable government system. Please note that this exception does not apply to errors arising from obtaining a DUNS number from Dun & Bradstreet, which is not a government entity. An Applicant unable to make timely submission of its Application due to any errors in the process of obtaining a DUNS number will not be allowed to submit its Application after the Application deadline has passed.

(a) SF-424 Late Submission: In cases where a Federal government administrative or Federal government technological error directly resulted in the late submission of the SF-424, the Applicant must submit a written request for acceptance of the late SF-424 submission and include documentation of the error no later than two business days after the SF-424 deadline. The CDFI Fund will not respond to requests for acceptance of late SF-424 submissions after that time period. Applicants must submit late SF-424 submission requests to the CDFI Fund via an AMIS service request to the SDL Program with a subject line of “Late SF-424 Submission Request—Small Dollar Loan Program.”

(b) Application Late Submission: In cases where a Federal government administrative or Federal government technological error directly resulted in a late submission of the Application in AMIS, the Applicant must submit a written request for acceptance of the late Application submission and include documentation of the error no later than two business days after the Application deadline. The CDFI Fund will not respond to requests for acceptance of late Application submissions after that time period. Applicants must submit late Application submission requests to the CDFI Fund via an AMIS service request to the SDL Program with a subject line of “Late Application Submission Request—Small Dollar Loan Program.”

5. Intergovernmental Review: Not Applicable.

6. Funding Restrictions: SDL Program Awards are limited by the following:

(a) A Recipient shall use SDL Program Award funds only for the eligible activities set forth in the Application and as described in Section II.B and Section II.D of this NOFA and its Assistance Agreement.

(b) A Recipient may not disburse SDL Program Award funds to an Affiliate, Subsidiary, or any other entity in any manner that would create a Subrecipient relationship (as defined in the Uniform Requirements) without the CDFI Fund's prior written approval.

(c) SDL Program Award dollars shall only be paid to the Recipient.

(d) The CDFI Fund, in its sole discretion, may pay SDL Program Awards in amounts, or under terms and conditions, which are different from those requested by an Applicant. However, the CDFI Fund will not grant an Award in excess of the amount requested by the Applicant.

V. Application Review Information

A. Criteria: All complete and eligible Applications will be reviewed in accordance with the criteria and procedures described in this NOFA, the Application guidance, and the Uniform Requirements. As part of the review process, the CDFI Fund reserves the right to contact the Applicant by telephone, email, mail, or through an on-site visit for the sole purpose of clarifying or confirming Application information at any point during the review process. The CDFI Fund reserves the right to collect such additional information from Applicants as it deems appropriate. If contacted, the Applicant must respond within the time period communicated by the CDFI Fund or its Application may be rejected. The CDFI Fund will review the SDL Program Applications in accordance with the process below. All CDFI Fund reviewers will complete the CDFI Fund's conflict of interest process.

B. Review and Selection Process: The CDFI Fund will evaluate each complete and eligible Application using the multi-phase review process described in this Section. Where appropriate, the CDFI Fund will use different criteria in order to evaluate the financial health, capacity, and strategies of the Applications based on the proposed use(s) of the SDL Program Award. These differences are noted in the following sections and the Application Instructions. Applicants that meet the minimum criteria will advance to the next step in the review process.

1. Eligibility Review: The CDFI Fund will evaluate each Application to determine its eligibility status pursuant to Section III of this NOFA.

2. Financial Analysis and Compliance Risk Evaluation:

i. Financial Analysis: For Regulated Institutions, the CDFI Fund will consider financial safety and soundness information from the Appropriate Federal or State Banking Agency. As detailed in Table 5, each Regulated Institution SDL Program Applicant must have a CAMELS/CAMEL rating of a “1”, “2”, or “3”, and no significant material concerns from its regulator.

For non-regulated Applicants, the CDFI Fund will evaluate the financial health and viability of each non-regulated Applicant using the Application Assessment Tool and the financial information provided by the Applicant. For the Financial Analysis, each non-regulated Applicant will receive a Total Financial Composite Score on a scale of one (1) to five (5), with one (1) being the highest rating. The Total Financial Composite Score is based on the analysis of twenty-three (23) financial indicators. Applications will be grouped based on the Total Financial Composite Score. Applicants must receive a Total Financial Composite Score of one (1), two (2), or three (3) to advance to the Business Strategy and Community Impact Review phase. CDFI Fund staff will review and confirm the scores for Applications that receive an initial Total Financial Composite Score of four (4) or five (5). If the Total Financial Composite Score remains four (4) or five (5) after CDFI Fund staff review, the Applicant will not advance to the Business Strategy and Community Impact Review phase.

ii. Compliance Risk Evaluation: For the compliance analysis, the CDFI Fund will evaluate the compliance risk of each Applicant using information provided in the Application as well as an Applicant's reporting history, reporting capacity, and performance risk with respect to the Applicant's PG&Ms for all CDFI Fund awards. Each Applicant will receive a Total Compliance Composite Score on a scale of one (1) to five (5), with one (1) being the highest rating. CDFI Fund staff will review and confirm the scores for Applications that receive an initial Total Compliance Composite Score of four (4) or five (5). If the Applicant is deemed a high compliance risk after CDFI Fund Staff review, the Applicant will not advance to the Business Strategy and Community Impact Review phase.

3. Business Strategy and Community Impact Review: Applicants that proceed to this phase will be evaluated on the soundness of their proposed business strategy and community impact. Applicants will receive a Total Business Strategy and Community Impact Review Score equivalent to “Low Risk”, “Medium Risk” or “High Risk”. Applicants must receive a Total Business Strategy and Community Impact Review Score that is equivalent to a “Low Risk” or “Medium Risk” to move forward to the Final Award Decision and Award Amount Determination Stage. Applicants that receive an overall rating of “High Risk” in this Review will not move forward to the Final Award Decision and Award Amount Determination stage, and will not receive further consideration for an SDL Program Award.

In the Business Strategy and Community Impact section, the CDFI Fund will review and evaluate: (i) The needs of communities and persons in the areas the Applicant proposes to serve with an SDL Program Award and the extent to which the proposed strategy addresses these needs; (ii) the small dollar lending and financing gaps addressed by its business strategy; (iii) the projected SDL Program activities and track record; (iv) the role the SDL Program Award plays in its financing strategy and the expected community impact that will be sought as a result of the proposed program. Expected community impacts may include improved financial strength and stability for low-income and underserved people and/or improved borrower delinquency rate and/or improved credit history and credit scores and/or access to mainstream financial products and expanded activity in other credit facilities (e.g., borrower received an auto loan) and/or continued access to financial education, including credit counseling and/or help to create or preserve savings and/or help borrowers consolidate or reduce debt at a lower cost.

a. For the Applicant requesting an Award for LLR, the Applicant will discuss how the LLR will be used to launch a small dollar loan program or increase the volume of its existing small dollar program that meets the statutory and other requirements described in this NOFA. The Applicant will also describe its strategy and structure of the LLR account. Further, the Applicant will discuss the anticipated loss rate that these reserves will cover and how this was estimated.

b. For the Applicant applying for a TA Award, the Applicant will describe the strategy for how a TA Award will be used to launch a small dollar loan program or increase the volume of its existing small dollar program that meets the statutory and other requirements described in this NOFA. The Applicant will include information about intended uses, such as: Technology support, including software and peripherals and/or staff support, including salary and training and/or credit monitoring and reporting capability and/or marketing or promotional support and/or fees for consultants and/or audit or oversight costs.

Within the Business and Community Impact Strategy Section, an Applicant will generally be deemed a lower risk to the extent that it: (i) Clearly aligns its proposed SDL Program Award activities and products with the small dollar needs and financing gaps it identifies; (ii) demonstrates that its strategy and activities will result in more favorable financing rates and terms for borrowers; (iii) demonstrates that its projected activities are achievable based on the Applicant's strategy and track record and demonstrates an increase in its small dollar lending; (iv) describes a clear process for selecting borrowers that have a clear need for its small dollar loan program financing; and (v) has a credible pipeline of borrowers. An Applicant will generally score more favorably to the extent it has a volume of projected activities supported by its track record. An Applicant will also score favorably if its small dollar loan program offers one or more of the following lending practices and loan characteristics that promote affordable and responsible small dollar lending: The loan term is at least ninety (90) days, and/or it considers the borrower's ability to repay by assessing both the borrower's income and expenses (i.e., base lending on a borrower's ability to repay according to the terms of the loan, while meeting other expenses, without needing to refinance/re-borrow, and without relying on collateral), and/or loan decisions are made within one business day (twenty-four (24) hours) after receipt of required documents, and/or the borrower receives a reduction in its loan rate if s/he uses automatic debit payments, and/or the Applicant's small dollar loan program offers automatic savings features, and/or the Applicant offers access to financial education, including credit counseling.

4. Final Award Decision and Award Amount Determination: During this last phase, the CDFI Fund will review all SDL Program Applications that make it to this step to ensure adherence with the SDL Program's policies and procedures as well as applicable Federal regulations. The CDFI Fund will also review the Applicant's management team and key staff, compliance status, eligibility, due diligence, and regulatory matters. This due diligence includes an analysis of programmatic and financial risk factors including, but not limited to, financial stability, history of performance in managing Federal awards (including timeliness of reporting and compliance), audit or regulator findings, and the Applicant's ability to effectively implement Federal requirements. For Applicants applying for awards to establish a small dollar loan program, the CDFI Fund will also consider the Applicant's ability to start a new small dollar loan program. If an Applicant is found to be a significant risk as a result of the due diligence review, the CDFI Fund may eliminate the Applicant from consideration for an SDL Program Award.

The CDFI Fund will determine award amounts for Applications based on the due diligence performed, the Applicant's requested amount, and certain other factors, including but not limited to, the Applicant's three-year projected total small dollar loans to be closed, minimum award size, Applicants that offer one or more of the preferred lending practices and loan characteristics stated in this NOFA that promote affordable and responsible small dollar lending, Applicants that have headquarters (as stated in the Applicant's Application) located in PPCs, an Applicant's risk rating level, and funding availability. Award amounts may be reduced from the requested award amount as a result of the above factors.

5. Regulated Institutions: The CDFI Fund will consider safety and soundness information from the Appropriate Federal or State Banking Agency. If the Applicant is a CDFI Depository Institution Holding Company, the CDFI Fund will consider information provided by the Appropriate Federal or State Banking Agencies about both the CDFI Depository Institution Holding Company and the Certified CDFI Subsidiary Insured Depository Institution that will expend and carry out the award. If the Appropriate Federal or State Banking Agency identifies safety and soundness concerns, the CDFI Fund will assess whether such concerns cause or will cause the Applicant to be incapable of undertaking the activities for which funding has been requested.

6. Non-Regulated Institutions: The CDFI Fund must ensure, to the maximum extent practicable, that Applicants which are non-regulated CDFIs are financially and managerially sound, and maintain appropriate internal controls (12 U.S.C. 4707(f)(1)(A) and 12 CFR 1805.800(b)). Further, the CDFI Fund must determine that an Applicant's capacity to operate as a CDFI and its continued viability will not be dependent upon assistance from the CDFI Fund (12 U.S.C. 4704(b)(2)(A)). If it is determined that the Applicant is incapable of meeting these requirements, the CDFI Fund reserves the right to deem the Applicant ineligible or terminate the award.

C. Anticipated Award Announcement: The CDFI Fund anticipates making the SDL Program Award announcement before September 30, 2021. However, the anticipated award announcement date is subject to change without notice.

D. Application Rejection: The CDFI Fund reserves the right to reject an Application if information (including administrative errors) comes to the CDFI Fund's attention that: Adversely affects an Applicant's eligibility for an award; adversely affects the Recipient's certification as a CDFI (to the extent that the award is conditional upon CDFI certification); adversely affects the CDFI Fund's evaluation or scoring of an Application; or indicates fraud or mismanagement on the Applicant's part. If the CDFI Fund determines any portion of the Application is incorrect in a material respect, the CDFI Fund reserves the right, in its sole discretion, to reject the Application. The CDFI Fund reserves the right to change its eligibility and evaluation criteria and procedures, if the CDFI Fund deems it appropriate. If the changes materially affect the CDFI Fund's award decisions, the CDFI Fund will provide information about the changes through its website. The CDFI Fund's award decisions are final, and there is no right to appeal decisions.

VI. Federal Award Administration Information

A. Award Notification: Each successful Applicant will receive notification from the CDFI Fund stating that its Application has been approved for an Award. Each Applicant not selected for an Award will receive notification and be provided a debriefing document in its AMIS account.

B. Administrative and Policy Requirements Prior to Entering into an Assistance Agreement: The CDFI Fund may, in its discretion and without advance notice to the Recipient, terminate the Award or take other actions as it deems appropriate if, prior to entering into an Assistance Agreement, information (including an administrative error) comes to the CDFI Fund's attention that adversely affects the following: The Recipient's eligibility for an Award; the CDFI Fund's evaluation of the Application; the Recipient's compliance with any requirement listed in the Uniform Requirements; or indicates fraud or mismanagement on the Recipient's part, including mismanagement of another Federal award.

If the Recipient's certification status as a CDFI changes prior to entering into an Assistance Agreement, the CDFI Fund reserves the right, in its sole discretion, to re-calculate the SDL Program Award, or modify the Assistance Agreement based on the Recipient's non-CDFI status.

By receiving notification of a SDL Program Award, the Recipient agrees that, if the CDFI Fund becomes aware of any information (including an administrative error) prior to the Effective Date of the Assistance Agreement that either adversely affects the Recipient's eligibility for an SDL Program Award, or adversely affects the CDFI Fund's evaluation of the Recipient's Application, or indicates fraud or mismanagement on the part of the Recipient, the CDFI Fund may, in its discretion and without advance notice to the Recipient, rescind the notice of award or take other actions as it deems appropriate.

The CDFI Fund reserves the right, in its sole discretion, to rescind an Award if the Recipient fails to return the Assistance Agreement, signed by an Authorized Representative of the Recipient, and/or provide the CDFI Fund with any other requested documentation, within the CDFI Fund's deadlines.

In addition, the CDFI Fund reserves the right, in its sole discretion, to terminate and rescind the Assistance Agreement and the award made under this NOFA for any criteria described in Table 9:

Table 9—Requirements Prior To Executing an Assistance Agreement
Requirement | Criteria
Failure to meet reporting requirements | • If an Applicant received a prior award or allocation under any CDFI Fund program and is not current on the reporting requirements set forth in the previously executed assistance, award, allocation, bond loan agreement(s), or agreement to guarantee, as of the date of the notice of award, the CDFI Fund reserves the right, in its sole discretion, to delay entering into an Assistance Agreement and/or to delay making a Payment of SDL Program Award, until said prior Recipient or allocatee is current on the reporting requirements in the previously executed assistance, award, allocation, bond loan agreement(s), or agreement to guarantee.
| • If such a prior Recipient or allocatee is unable to meet this requirement within the timeframe set by the CDFI Fund, the CDFI Fund reserves the right, in its sole discretion, to terminate and rescind the notice of award and the SDL Program Award made under this NOFA.
| • Please note that automated systems employed by the CDFI Fund for receipt of reports submitted electronically typically acknowledge only a report's receipt; such acknowledgment does not warrant that the report received was complete, nor that it met reporting requirements. If said prior Recipient or allocatee is unable to meet this requirement within the timeframe set by the CDFI Fund, the CDFI Fund reserves the right, in its sole discretion, to terminate and rescind the notice of Award and the SDL Program Award made under this NOFA.
Failure to maintain CDFI Certification (if applicable) | • A Recipient must be a Certified CDFI as is defined in the SDL Program Application and this NOFA, prior to entering into an Assistance Agreement.
| • If, at any time prior to entering into an Assistance Agreement under this NOFA, an Applicant that is a Certified CDFI has submitted reports (or failed to submit an annual certification report as instructed by the CDFI Fund) to the CDFI Fund that demonstrate noncompliance with the requirements for certification, but the CDFI Fund has yet to make a final determination regarding whether or not the entity is Certified, the CDFI Fund reserves the right, in its sole discretion, to delay entering into an Assistance Agreement and/or to delay making a Payment of SDL Program Award, pending full resolution, in the sole determination of the CDFI Fund, of the noncompliance.
| • If the Applicant is unable to meet this requirement, in the sole determination of the CDFI Fund, the CDFI Fund reserves the right, in its sole discretion, to terminate and rescind the notice of award and the SDL Program Award made under this NOFA.
Pending resolution of noncompliance | • The CDFI Fund will delay entering into an Assistance Agreement with a Recipient that has pending noncompliance issues with any of its previously executed CDFI Fund award(s), allocation(s), bond loan agreement(s), or agreement(s) to guarantee.
| • If said prior Recipient or allocatee is unable satisfactorily resolve the compliance issues, the CDFI Fund reserves the right, in its sole discretion, to terminate and rescind the notice of award and the SDL Program Award made under this NOFA.
Default or Noncompliance status | • If, at any time prior to entering into an Assistance Agreement, the CDFI Fund determines that an Applicant (or an Affiliate of the Applicant) that is a prior CDFI Fund Recipient or allocatee under any CDFI Fund program is noncompliant or found in default with any previously executed CDFI Fund award or Assistance agreement(s) and the CDFI Fund has provided written notification that the Applicant is ineligible to apply for or receive any future awards or allocations for a time period specified by the CDFI Fund in writing, the CDFI Fund may, in its sole discretion, delay entering into an Assistance Agreement with Applicant until the Recipient has cured the noncompliance by taking actions the CDFI Fund has specified in writing within such specified timeframe. If the Recipient is unable to cure the noncompliance within the specified timeframe, the CDFI Fund may modify or rescind all or a portion of the SDL Program Award made under this NOFA.
Compliance with Federal civil rights requirements | • If, prior to entering into an Assistance Agreement under this NOFA, the Recipient receives a final determination, made within the last three years, in any proceeding instituted against the Recipient in, by, or before any court, governmental, or administrative body or agency, declaring that the Recipient has violated the following laws: Title VI of the Civil Rights Act of 1964, as amended (42 U.S.C. 2000d); Section 504 of the Rehabilitation Act of 1973 (29 U.S.C. 794); the Age Discrimination Act of 1975, (42 U.S.C. 6101-6107), and Executive Order 13166, Improving Access to Services for Persons with Limited English Proficiency, the CDFI Fund will terminate and rescind the Assistance Agreement and the award made under this NOFA.
Do Not Pay | • The CDFI Fund reserves the right, in its sole discretion, to rescind an award if the Recipient (or Affiliate of a Recipient) is determined to be ineligible based on data in the Do Not Pay database.
| • The Do Not Pay Business Center was developed to support Federal agencies in their efforts to reduce the number of improper payments made through programs funded by the Federal government.
Safety and soundness | • If it is determined that the Recipient is or will be incapable of meeting its SDL Program Award obligations, the CDFI Fund will deem the Recipient to be ineligible or require it to improve safety and soundness conditions prior to entering into an Assistance Agreement.

C. Assistance Agreement: Each Applicant that is selected to receive an award under this NOFA must enter into an Assistance Agreement with the CDFI Fund in order to become a Recipient and receive Payment. Each SDL Program Assistance Agreement has a three-year Period of Performance.

1. The Assistance Agreement will set forth certain required terms and conditions of the SDL Program Award, which will include, but not be limited to:

(a) The amount of the award;

(b) The approved uses of the award;

(c) Performance goals and measures; and

(d) Reporting requirements for all Recipients.

2. Prior to executing the Assistance Agreement, the CDFI Fund may, in its discretion, allow Recipients to request changes to certain performance goals and measures. The CDFI Fund, in its sole determination, may approve or reject these requested changes or propose other modifications, including a reduction in the Award amount. The CDFI Fund will only approve performance goals and measures if it determines that such requested changes do not undermine the competitive process upon which the SDL Program Award determination was made. Any modifications agreed upon prior to the execution of the Assistance Agreement will become a condition of the Award.

3. The Assistance Agreement shall provide that, prior to any determination by the CDFI Fund that a Recipient has failed to comply substantially with the SDL Program statute or the environmental quality regulations, the CDFI Fund shall provide the Recipient with reasonable notice and opportunity for hearing. If the Recipient fails to comply substantially with the Assistance Agreement, the CDFI Fund may:

(a) Require changes in the performance goals set forth in the Assistance Agreement;

(b) Reduce or terminate the SDL Program Award; or

(c) Require repayment of any SDL Program Award that has been distributed to the Recipient.

4. The Assistance Agreement shall also provide that, if the CDFI Fund determines noncompliance with the terms and conditions of the Assistance Agreement on the part of the Recipient, the CDFI Fund may:

(a) Bar the Recipient from reapplying for any assistance from the CDFI Fund; or

(b) Take such other actions as the CDFI Fund deems appropriate or as set forth in the Assistance Agreement.

5. In addition to entering into an Assistance Agreement, each Applicant selected to receive a SDL Program Award must furnish to the CDFI Fund a certificate of good standing from the jurisdiction in which it was formed. The CDFI Fund may, in its sole discretion, also require the Applicant to furnish an opinion from its legal counsel, the content of which may be further specified in the Assistance Agreement, and which, among other matters, opines that:

(a) The Recipient is duly formed and in good standing in the jurisdiction in which it was formed and the jurisdiction(s) in which it transacts business;

(b) The Recipient has the authority to enter into the Assistance Agreement and undertake the activities that are specified therein;

(c) The Recipient has no pending or threatened litigation that would materially affect its ability to enter into and carry out the activities specified in the Assistance Agreement;

(d) The Recipient is not in default of its articles of incorporation or formation, bylaws or operating agreements, other organizational or establishing documents, or any agreements with the Federal government; and

(e) The Recipient is exempt from Federal Income taxation pursuant to the Internal Revenue Code of 1986.

D. Paperwork Reduction Act: Under the Paperwork Reduction Act (44 U.S.C. chapter 35), an agency may not conduct or sponsor a collection of information, and an individual is not required to respond to a collection of information, unless it displays a valid OMB control number. If applicable, the CDFI Fund may inform Applicants that they do not need to provide certain Application information otherwise required. Pursuant to the Paperwork Reduction Act, the SDL Program Application has been assigned the following control number: 1559-0036.

E. Reporting: The CDFI Fund will require each Recipient that receives a SDL Program Award through this NOFA to account for and report to the CDFI Fund on the use of the SDL Program Award. This will require Recipients to establish administrative controls, subject to the Uniform Requirements and other applicable OMB guidance. The CDFI Fund will collect information from each such Recipient on its use of the SDL Program Award annually following Payment and more often if deemed appropriate by the CDFI Fund in its sole discretion. The CDFI Fund will provide guidance to Recipients outlining the format and content of the information required to be provided to describe how the funds were used.

The CDFI Fund may collect information from each Recipient including, but not limited to, an annual report with the components listed in Table 10:

Table 10—Reporting Requirements
Criteria | Description
Single Audit (if applicable) | A non-profit Recipient must complete an annual Single Audit pursuant to the Uniform Requirements (2 CFR 200.500) if it expends $750,000 or more in Federal awards in its fiscal year, or such other dollar threshold established by OMB pursuant to 2 CFR 200.500. If a Single Audit is required, it must be submitted electronically to the Federal Audit Clearinghouse (FAC) (see 2 CFR Subpart F-Audit Requirements in the Uniform Requirements) and optionally through AMIS.
Financial Statement Audit | For-profit and nonprofit Recipients must submit a Financial Statement Audit (FSA) report in AMIS, along with the Recipient's statement of financial condition audited or reviewed by an independent certified public accountant.
Uses of Award Report | The Recipient must submit the Uses of Award Report to the CDFI Fund in AMIS.
| If the Recipient is a Depository Institution Holding Company that deploys all or a portion of its SDL Program grant through its Subsidiary CDFI Insured Depository Institution, that Subsidiary CDFI Insured Depository Institution must also submit a Uses of Award Report. Furthermore, if the Depository Institution Holding Company itself deploys any portion of the SDL Program grant, the Depository Institution Holding Company must submit a Uses of Award Report.
Performance Progress Report | The Recipient must submit the Performance Progress Report through AMIS.
| If the Recipient is a Depository Institution Holding Company that deploys all or a portion of its SDL Program grant through its Subsidiary CDFI Insured Depository Institution, that Subsidiary CDFI Insured Depository Institution must also submit a Performance Progress Report. Furthermore, if the Depository Institution Holding Company itself deploys any portion of the SDL Program grant, the Depository Institution Holding Company must submit a Performance Progress Report.
* Personally Identifiable Information (PII) is information, which if lost, compromised, or disclosed without authorization, could result in substantial harm, embarrassment, inconvenience, or unfairness to an individual. Although Applicants are required to enter addresses of homes and other properties in AMIS, Applicants should not include the following PII for the individuals who received the financial products or services in AMIS or in the supporting documentation (i.e.—name of the individual, Social Security Number, driver's license or state identification number, passport number, Alien Registration Number, etc.). This information should be redacted from all supporting documentation (if applicable).

Each Recipient is responsible for the timely and complete submission of the annual reporting documents. The CDFI Fund will use such information to monitor each Recipient's compliance with the requirements set forth in the Assistance Agreement and to assess the impact of the SDL Program. The CDFI Fund reserves the right, in its sole discretion, to modify these reporting requirements if it determines it to be appropriate and necessary; however, such reporting requirements will be modified only after notice to Recipients.

F. Financial Management and Accounting: The CDFI Fund will require Recipients to maintain financial management and accounting systems that comply with Federal statutes, regulations, and the terms and conditions of the SDL Program Award. These systems must be sufficient to permit the preparation of reports required by general and program specific terms and conditions, including the tracing of funds to a level of expenditures adequate to establish that such funds have been used in accordance with the Federal statutes, regulations, and the terms and conditions of the SDL Program Award.

The cost principles used by Recipients must be consistent with Federal cost principles; must support the accumulation of costs as required by the principles; and must provide for adequate documentation to support costs charged to the SDL Program Award. In addition, the CDFI Fund will require Recipients to: Maintain effective internal controls; comply with applicable statutes and regulations, the Assistance Agreement, and related guidance; evaluate and monitor compliance; take action when not in compliance; and safeguard personally identifiable information.

VII. Agency Contacts

A. Availability: The CDFI Fund will respond to questions and provide support concerning this NOFA and the Application between the hours of 9:00 a.m. and 5:00 p.m. ET, starting on the date of the publication of this NOFA until the close of business on the third business day preceding the Application deadline. The CDFI Fund will not respond to questions or provide support concerning the Application that are received after 5:00 p.m. ET on said date, until after the Application deadline. CDFI Fund IT support will be available until 5:00 p.m. ET on date of the Application deadline. Applications and other information regarding the CDFI Fund and its programs may be obtained from the CDFI Fund's website at http://www.cdfifund.gov/sdlp. The CDFI Fund will post on its website responses to questions of general applicability regarding the SDL Program.

B. The CDFI Fund's contact information is listed in Table 11:

Table 11—Contact Information
Type of question | Preferred method | Telephone number (not toll free) | Email addresses
SDL Program | Submit a Service Request in AMIS | 202-653-0421 | sdlp@cdfi.treas.gov.
CDFI Certification | Submit a Service Request in AMIS | 202-653-0423 | ccme@cdfi.treas.gov.
Compliance Monitoring and Evaluation | Submit a Service Request in AMIS | 202-653-0423 | ccme@cdfi.treas.gov.
Information Technology Support | Submit a Service Request in AMIS | 202-653-0422 | AMIS@cdfi.treas.gov.

The preferred method of contact is to submit a Service Request within AMIS. For an SDL Program Application question, select “Small Dollar Loan Program” for the program. For a CDFI Certification question, select “Certification.” For a Compliance question, select “Compliance & Reporting.” For Information Technology, select “Technical Issues.” Failure to select the appropriate program for the Service Request could result in delays in responding to your question.

C. Communication with the CDFI Fund: The CDFI Fund will use AMIS to communicate with Applicants and Recipients, using the contact information maintained in their respective AMIS accounts. Therefore, the Recipient and any Subsidiaries, signatories, and Affiliates must maintain accurate contact information (including contact persons and Authorized Representatives, email addresses, fax numbers, phone numbers, and office addresses) in its AMIS account(s). For more information about AMIS please see the Help documents posted at https://amis.cdfifund.gov/s/Training.

D. Civil Rights and Diversity: Any person who is eligible to receive benefits or services from the CDFI Fund or Recipients under any of its programs is entitled to those benefits or services without being subject to prohibited discrimination. The Department of the Treasury's Office of Civil Rights and Diversity enforces various Federal statutes and regulations that prohibit discrimination in financially assisted and conducted programs and activities of the CDFI Fund. If a person believes that s/he has been subjected to discrimination and/or reprisal because of membership in a protected group, s/he may file a complaint with: Associate Chief Human Capital Officer, Office of Civil Rights, and Diversity, 1500 Pennsylvania Ave. NW, Washington, DC 20220 or (202) 622-1160 (not a toll-free number).

E. Statutory and National Policy Requirements: The CDFI Fund will manage and administer the Federal award in a manner so as to ensure that Federal funding is expended and associated programs are implemented in full accordance with the U.S. Constitution, Federal Law, statutory, and public policy requirements: Including, but not limited to, those protecting free speech, religious liberty, public welfare, the environment, and prohibiting discrimination.

VIII. Other Information

None.

Authority: Pub. L. 110-289. 12 U.S.C. 4701, 12 CFR part 1805, 12 CFR part 1807, 12 CFR part 1815, 12 U.S.C. 4502.

Jodie L. Harris,
Director, Community Development Financial Institutions Fund.

[FR Doc. 2021-08848 Filed 4-28-21; 8:45 am]

BILLING CODE 4810-05-P